DEPARTMENT OF DEFENSE

DEPARTMENT OF ENERGY

ENVIRONMENTAL PROTECTION AGENCY

NUCLEAR REGULATORY COMMISSION

[Docket No. A-96-44]

Multi-Agency Radiation Survey and Site Investigation Manual, Revision 1

AGENCY: U.S. Department of Defense, U.S. Department of Energy, U.S. Environmental Protection Agency, and the U.S. Nuclear Regulatory Commission.

ACTION: Notice of availability.

SUMMARY: The U.S. Department of Defense (DOD), U.S. Department of Energy (DOE), U.S. Environmental Protection Agency (EPA) and the U.S. Nuclear Regulatory Commission (NRC) are announcing the availability for use of the August 2000 Revision 1, of the December 1997 “Multi-Agency Radiation Survey and Site Investigation Manual” (MARSSIM). In response to comments received on the December 1997 MARSSIM, the MARSSIM has been updated to reflect resolution of these comments and to make minor editorial corrections. The changes are simple clarifications and corrections of errata, and they do not change the methods originally described. Therefore, the purpose of this new Federal Register Notice is to inform the public that the newly revised MARSSIM is available. The MARSSIM provides information on planning, conducting, evaluating, and documenting environmental radiological surveys of surface soils and building surfaces for demonstrating compliance with regulations.

ADDRESSES: Copies of the MARSSIM, Revision 1, and all public comments received may be examined or copied for a fee at the EPA Docket Room M1500, Docket No. A-96-44, First Floor Waterside Mall, 401 M Street, SW., Washington, DC 20460; and the NRC Public Document Room, 2120 L Street, NW., Washington, DC 20555-0001. The EPA docket may be inspected from 8:00 a.m. to 4:00 p.m., Monday through Friday, excluding Federal holidays in Room M1500 at the address above. NRC documents may be inspected from 7:45 a.m. to 4:15 p.m., Monday through Friday, excluding Federal holidays in the lower level of the building at the address above.

Copies of the MARSSIM, Revision 1, may be purchased by requests in writing to: The Superintendent of Documents, U.S. Government Printing Office, P.O. Box 37082, Washington, DC 20402-9328. The NRC document number is NUREG-1575, Rev. 1, and the EPA document number is EPA 402-R-97-016, Rev. 1, and the DOE number is DOE/EH-0624, Rev. 1.

The manual, changed pages, and summary of comments received are also available through the Internet at: http://www.epa.gov/radiation/marssim or by linkage from the NRC home page at: http://www.nrc.gov; or the DOE home page at: http://www.doe/gov.

The author agencies continue to seek comments arising from use of the MARSSIM. Comments will be reviewed periodically by the author agencies, resolved as appropriate, and incorporated into revisions of the MARSSIM. Members of the public are invited to submit written comments to EITHER the U.S. Environmental Protection Agency, ATTN: Air and Radiation Docket, Mail Stop 6102, Air Docket No. A-96-44, Room M1500, First Floor Waterside Mall, 1200 Pennsylvania Avenue, NW., Washington, DC 20460 or the Chief, Rules and Directives Branch, Division of Administrative Services, U.S. Nuclear Regulatory Commission, Washington, DC 20555-0001. Copies of all comments received by one agency will be periodically copies and sent to the others.

FOR FURTHER INFORMATION CONTACT: Any of the following points of contact for each agency for technical information (see ADDRESSES section above for directions on obtaining a copy of the MARSSIM): DOE: Harold Peterson, Telephone: (202) 586-9640, U.S. Department of Energy (EH-412), 1000 Independence Avenue, SW., Washington, DC 20585, e-mail: peterson.harold@eh.doe.gov; EPA: Mark Doehnert; Telephone: (202) 564-9386, U.S. Environmental Protection Agency, Mail Stop 6608J, 1200 Pennsylvania Avenue, NW., Washington, DC 20460, e-mail: doehnert.mark@epa.gov; NRC: Robert A. Meck, Telephone: (301) 415-6205, U.S. Nuclear Regulatory Commission, MS T-9C24, Washington, DC 20555-0001, e-mail: ram2@nrc.gov. Questions concerning the multi-agency document development project should be addressed to CDR Colleen Petullo, Telephone: (702) 798-2476, U.S. Public Health Service at U.S. Environmental Protection Agency, R&IE, P.O. Box 98517, Las Vegas, NV 89193-8517, e-mail: petullo.colleen@epa.gov.

SUPPLEMENTARY INFORMATION: The MARSSIM provides information on planning, conducting, evaluating, and documenting environmental radiological surveys of surface soil and building surfaces for demonstrating compliance with regulations. The MARSSIM, now as Revision 1, is a multi-agency consensus document. The MARSSIM was developed collaboratively over a four-year period by the technical staffs of four Federal agencies having authority for control of radioactive materials: DOD, DOE, EPA, and NRC. These staffs have continued to meet in order to discuss the future approaches to structural and environmental radiation surveys, future updates to the manual, using implementation tools such as training and software, and the schedule of future meetings. Members of the public and contractors to the Federal agencies have been present during the open meetings of the MARSSIM work group and have been provided opportunities for input.

The author agencies solicited comments arising from review and use of the final MARSSIM. In response to comments received to date, minor modifications were made to individual pages. Modifications to the manual correct errors, clarify guidance, and provide additional information. The methods originally described are not changed. The format of the MARSSIM has been changed to three-hole-punched pages for use in a binder. This format change will facilitate the insertion of the user's notes and future pages changes, if any. A complete list of comments and resolutions is available on the internet at the MARSSIM world wide website at: http://www.epa.gov/radiation/marssim.

Dated in Arlington, VA, this 15th day of September 2000.
For the Department of Defense.
Sherri W. Goodman,
Deputy Under Secretary of Defense, (Environmental Security).

Dated in Washington, DC, this 11th day of September 2000.
For the U.S. Department of Energy.
David Michaels,
Assistant Secretary, Environment, Safety and Health.

Dated in Washington, DC, this 16th day of August 2000.
For the U.S. Environmental Protection Agency.
Frank Marcinowski,
Acting Director, Radiation Protection Division, Office of Radiation and Indoor Air.

Dated in Rockville, Maryland, this 28th day of August 2000.
For the U.S. Nuclear Regulatory Commission.
Ashok Thadani,
Director, Office of Nuclear Regulatory Research.

[FR Doc. 00-26668 Filed 10-17-00; 8:45 am]

BILLING CODE 7590-01-M